DEPARTMENT OF TRANSPORTATION

Federal Aviation Administration

14 CFR Part 39

[Docket No. FAA-2014-0657; Directorate Identifier 2014-NM-058-AD; Amendment 39-18501; AD 2016-09-03]

RIN 2120-AA64

Airworthiness Directives; Dassault Aviation Airplanes

AGENCY: Federal Aviation Administration (FAA), Department of Transportation (DOT).

ACTION: Final rule.

SUMMARY: We are adopting a new airworthiness directive (AD) for certain Dassault Aviation Model FALCON 2000, FALCON 2000EX, MYSTERE-FALCON 900, and FALCON 900EX airplanes. This AD was prompted by reports of a co-pilot sliding aft on his seat during take-off at rotation. This AD requires replacement of certain springs installed on the pilot and co-pilot seats. We are issuing this AD to prevent fatigue wear, which, if not corrected, could cause the seat to slide and the pilot or co-pilot to lose contact with the controls, leading to an inadvertent input on the flight control commands during take-off or climb, possibly resulting in loss of control of the airplane.

DATES: This AD becomes effective June 6, 2016.

The Director of the Federal Register approved the incorporation by reference of certain publications listed in this AD as of June 6, 2016.

ADDRESSES: For service information identified in this final rule, contact Dassault Falcon Jet Corporation, Teterboro Airport, P.O. Box 2000, South Hackensack, NJ 07606; telephone 201-440-6700; Internet http://www.dassaultfalcon.com. You may view this referenced service information at the FAA, Transport Airplane Directorate, 1601 Lind Avenue SW., Renton, WA. For information on the availability of this material at the FAA, call 425-227-1221. It is also available on the Internet at http://www.regulations.gov by searching for and locating Docket No. FAA-2014-0657.

Examining the AD Docket

You may examine the AD docket on the Internet at http://www.regulations.gov by searching for and locating Docket No. FAA-2014-0657; or in person at the Docket Management Facility between 9 a.m. and 5 p.m., Monday through Friday, except Federal holidays. The AD docket contains this AD, the regulatory evaluation, any comments received, and other information. The street address for the Docket Office (telephone 800-647-5527) is Docket Management Facility, U.S. Department of Transportation, Docket Operations, M-30, West Building Ground Floor, Room W12-140, 1200 New Jersey Avenue SE., Washington, DC 20590.

FOR FURTHER INFORMATION CONTACT: Tom Rodriguez, Aerospace Engineer, International Branch, ANM-116, Transport Airplane Directorate, FAA, 1601 Lind Avenue SW., Renton, WA 98057-3356; telephone 425-227-1137; fax 425-227-1149.

SUPPLEMENTARY INFORMATION:

Discussion

We issued a notice of proposed rulemaking (NPRM) to amend 14 CFR part 39 by adding an AD that would apply to certain Dassault Aviation Model FALCON 2000, FALCON 2000EX, MYSTERE-FALCON 900, and FALCON 900EX airplanes. The NPRM published in the Federal Register on November 17, 2014 (79 FR 68392) (“the NPRM”).

The European Aviation Safety Agency (EASA), which is the Technical Agent for the Member States of the European Union, has issued EASA Airworthiness Directive 2014-0061, dated March 11, 2014 (referred to after this as the Mandatory Continuing Airworthiness Information, or “the MCAI”), to correct an unsafe condition for certain Dassault Aviation Model FALCON 2000, FALCON 2000EX, MYSTERE-FALCON 900, and FALCON 900EX airplanes. The MCAI states:

During take-off at rotation, a co-pilot reported to slide aft on his seat.

The results of the investigations concluded that one spring of the seat locking system was broken and the other was weak. The root cause was determined to be fatigue wear. As springs accumulate cycles in service, they become increasingly exposed to the risk of unnoticed degradation or rupture.

This condition, if not corrected, could cause the pilot or the co-pilot to lose contact with the controls, leading to an inadvertent input on the flight control commands during take-off or climb, possibly resulting in loss of control of the aeroplane.

To address this unsafe condition, it was decided to require replacement of the affected seat springs for older aeroplanes and for newer aeroplanes; this task has been embodied in the aeroplane maintenance manual.

For the reasons described above, this [EASA] AD requires replacement of the springs installed on the pilot and co-pilot seats with serviceable springs.

You may examine the MCAI in the AD docket on the Internet at http://www.regulations.gov by searching for and locating Docket No. FAA-2014-0657.

Comments

We gave the public the opportunity to participate in developing this AD. The following presents the comments received on the NPRM and the FAA's response to each comment.

Request To Revise the Compliance Times

Travis Reinhardt requested that if paragraph (g) of the proposed AD is revised to include other airplanes that we consider different replacement times. The commenter stated that the NPRM is applicable to certain Dassault Aviation airplanes equipped with SICMA 132-series or 142-series pilot and co-pilot seats. The commenter noted he has Embraer 120 airplanes equipped with SICMA 147-series seats, which include part number (P/N) 132100-19 and/or 147100-19 stop pin springs. The commenter stated the Embraer 120 heavy checks are due at 4,000 flight hours versus the stated 3,750 total flight cycles or 74 months for the listed Falcon airplanes. The commenter stated that he has only changed out one spring, approximately twelve years ago, and that currently, his installed springs, P/N 132100-19, have approximately 34,000 flight hours and 34,600 flight cycles.

While we appreciate the information Mr. Reinhardt has given, we are not revising this final rule to include other airplane models (or different replacement times) because the identified unsafe condition only affects the Dassault Aviation airplanes identified in the Applicability paragraph of this AD that are equipped with SICMA 132-series or 142-series pilot and co-pilot seats. However, if we determine that an unsafe condition exists on other airplane models, we might consider further rulemaking on this issue. We have made no changes to this final rule in this regard.

Request To Add Part Number

Mr. Reinhardt requested that if the NPRM is revised, we consider adding P/N 132100-19 to paragraph (h) of the proposed AD, as stated in EASA AD 2014-0061, dated March 11, 2014.

For the reasons stated by the commenter, we agree to add P/N 132100-19 to paragraph (h) of this AD.

Conclusion

We reviewed the relevant data, considered the comments received, and determined that air safety and the public interest require adopting this AD with the changes described previously and minor editorial changes. We have determined that these minor changes:

• Are consistent with the intent that was proposed in the NPRM for correcting the unsafe condition; and

• Do not add any additional burden upon the public than was already proposed in the NPRM.

Related Service Information Under 1 CFR Part 51

Dassault Aviation has issued the following service information:

• Dassault Service Bulletin F900-429, Revision 1, dated July 13, 2012.

• Dassault Service Bulletin F900EX-446, Revision 1, dated July 13, 2012.

• Dassault Service Bulletin F2000-401, Revision 1, dated July 13, 2012.

• Dassault Service Bulletin F2000EX-267, Revision 1, dated July 13, 2012.

The service information describes procedures for replacing certain springs installed on the pilot and co-pilot seats. This service information is reasonably available because the interested parties have access to it through their normal course of business or by the means identified in the ADDRESSES section.

Costs of Compliance

We estimate that this AD affects 528 airplanes of U.S. registry.

We also estimate that it will take about 2 work-hours per product to comply with the basic requirements of this AD. The average labor rate is $85 per work-hour. Required parts will cost about $83 per product. Based on these figures, we estimate the cost of this AD on U.S. operators to be $133,584, or $253 per product.

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-09-03 Dassault Aviation: Amendment 39-18501. Docket No. FAA-2014-0657; Directorate Identifier 2014-NM-058-AD.

(a) Effective Date

This AD becomes effective June 6, 2016.

(b) Affected ADs

None.

(c) Applicability

This AD applies to the airplanes identified in paragraphs (c)(1), (c)(2), (c)(3), and (c)(4) of this AD, certificated in any category, equipped with SICMA 132-series or 142-series pilot and co-pilot seats.

(1) Dassault Aviation Model FALCON 2000 airplanes.

(2) Dassault Aviation Model FALCON 2000EX airplanes.

(3) Dassault Aviation Model MYSTERE-FALCON 900 airplanes.

(4) Dassault Aviation Model FALCON 900EX airplanes.

(d) Subject

Air Transport Association (ATA) of America Code 25, Equipment/Furnishings.

(e) Reason

This AD was prompted by reports of a co-pilot sliding aft on his seat during take-off at rotation. We are issuing this AD to prevent fatigue wear, which, if not corrected, could cause the seat to slide and the pilot or co-pilot to lose contact with the controls, leading to an inadvertent input on the flight control commands during take-off or climb, possibly resulting in loss of control of the airplane.

(f) Compliance

Comply with this AD within the compliance times specified, unless already done.

(g) Replacement

For airplanes that have accumulated more than 3,750 total flight cycles or have exceeded 74 months since the airplane's first flight as of the effective date of this AD: Within 9 months after the effective date of this AD, replace each spring having part number (P/N) 132100-19 and P/N 147100-19 installed on the pilot and co-pilot seats with a spring as specified in, and in accordance with, the Accomplishment Instructions of the service information identified in paragraph (g)(1), (g)(2), (g)(3), or (g)(4) of this AD, as applicable. Repeat the replacement thereafter at intervals not to exceed 78 months or 3,750 flight cycles, whichever occurs first.

(1) Dassault Service Bulletin F900-429, Revision 1, dated July 13, 2012.

(2) Dassault Service Bulletin F900EX-446, Revision 1, dated July 13, 2012.

(3) Dassault Service Bulletin F2000-401, Revision 1, dated July 13, 2012.

(4) Dassault Service Bulletin F2000EX-267, Revision 1, dated July 13, 2012.

(h) Parts Installation Limitation

As of the effective date of this AD, installation of a spring having P/N 147100-19 or P/N 132100-19 on any airplane is allowed, provided that the spring is new.

(i) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, WA 98057-3356; telephone 425-227-1137; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the European Aviation Safety Agency (EASA); or Dassault Aviation's EASA Design Organization Approval (DOA). If approved by the DOA, the approval must include the DOA-authorized signature.

(j) Related Information

Refer to Mandatory Continuing Airworthiness Information (MCAI) European Aviation Safety Agency Airworthiness Directive 2014-0061, dated March 11, 2014, for related information. This MCAI may be found in the AD docket on the Internet at http://www.regulations.gov by searching for and locating Docket No. FAA-2014-0657.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Dassault Service Bulletin F900-429, Revision 1, dated July 13, 2012.

(ii) Dassault Service Bulletin F900EX-446, Revision 1, dated July 13, 2012.

(iii) Dassault Service Bulletin F2000-401, Revision 1, dated July 13, 2012.

(iv) Dassault Service Bulletin F2000EX-267, Revision 1, dated July 13, 2012.

(3) For service information identified in this AD, contact Dassault Falcon Jet Corporation, Teterboro Airport, P.O. Box 2000, South Hackensack, NJ 07606; telephone 201-440-6700; Internet http://www.dassaultfalcon.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on April 20, 2016.
John P. Piccola, Jr.,
Acting Manager, Transport Airplane Directorate, Aircraft Certification Service.

[FR Doc. 2016-09800 Filed 4-29-16; 8:45 am]

BILLING CODE 4910-13-P